DEPARTMENT OF JUSTICE

Coordinating Council on Juvenile Justice and Delinquency Prevention

[OJP (OJJDP) Docket No. 1410]

Notice of Meeting

AGENCY: Coordinating Council on Juvenile Justice and Delinquency Prevention.

ACTION: Notice of meeting.

SUMMARY: The Coordinating Council on Juvenile Justice and Delinquency Prevention (Council) is announcing the December 3, 2004, meeting of the Council.

DATES: Friday, December 3, 2004, 9 a.m.-12 p.m.

ADDRESSES: The meeting will take place at the Frances Perkins Department of Labor Building, Room N-4437, 200 Constitution Avenue, NW., Washington, DC. (Enter at 3rd and C Streets, NW.).

FOR FURTHER INFORMATION CONTACT: Timothy Wight, Designated Federal Official for the Coordinating Council on Juvenile Justice and Delinquency Prevention, by telephone at 202-514-2190, or by e-mail at Timothy.Wight@usdoj.gov.

SUPPLEMENTARY INFORMATION: The Coordinating Council on Juvenile Justice and Delinquency Prevention, established pursuant to section 3(2)A of the Federal Advisory Committee Act (5 U.S.C. App. 2), will meet to carry out its advisory functions under Section 206 of the Juvenile Justice and Delinquency Prevention Act of 2002, 42 U.S.C. 5601, et seq. Documents such as meeting announcements, agendas, minutes, and interim and final reports will be available on the Council's Web page at http://www.JuvenileCouncil.gov. (You may also verify the status of the meeting at that Web address.)

Although designated agency representatives attend, the Council is composed of the Attorney General (Chair), the Secretary of Health and Human Services, the Secretary of Labor, the Secretary of Education, the Secretary of Housing and Urban Development, the Administrator of the Office of Juvenile Justice and Delinquency Prevention (Vice Chair), the Director of the Office of National Drug Control Policy, the Chief Executive Officer of the Corporation for National and Community Service, and the Assistant Secretary for Homeland Security, Immigrations and Customs Enforcement. Nine additional members are appointed by the Speaker of the House of Representatives, the Senate Majority Leader, and the President of the United States.

The agenda for this meeting will include: (a) Review of past Council actions, (b) discussion of the Final Report of the White House Task Force for Disadvantaged Youth, (c) discussion and Council recommendations regarding Federal agencies that hold juvenile offenders, nonoffenders, and undocumented juveniles, (d) the National Youth Anti-Drug Media Campaign, and (e) discussion and Council recommendations regarding youth employment training programs.

For security purposes, members of the public who wish to attend the meeting must pre-register by calling the Juvenile Justice Resource Center at 301-519-6473 (Daryel Dunston) or 301-519-5790 (Karen Boston), no later than November 23, 2004. To register online, please go to http://www.JuvenileCouncil.gov/meetings.html. Space is limited.

Note: Photo identification will be required for admission to the meeting.

Written Comments

Interested parties may submit written comments by November 23, 2004, to Timothy Wight, Designated Federal Official for the Coordinating Council on Juvenile Justice and Delinquency Prevention, at Timothy.Wight@usdoj.gov. The Coordinating Council on Juvenile Justice and Delinquency Prevention expects public statements presented at its meetings will not be repetitive of previously submitted statements. No oral comments will be permitted at this meeting.

Dated: November 1, 2004.
J. Robert Flores,
Vice-Chair, Coordinating Council on Juvenile Justice and Delinquency Prevention.

[FR Doc. 04-24698 Filed 11-4-04; 8:45 am]

BILLING CODE 4410-18-P